POSTAL SERVICE

Product Change—Priority Mail—Non-Published Rates

AGENCY: Postal Service™.

ACTION: Notice of filing a new Priority Mail—Non-Published Rates product.

SUMMARY: Postal Service notice of filing a request with the Postal Regulatory Commission to establish a new Priority Mail—Non-Published Rates product, named PMNPR-2.

DATES: Date of required notice: June 22, 2020.

FOR FURTHER INFORMATION CONTACT: Elizabeth Reed, 202-268-3179.

SUPPLEMENTARY INFORMATION: The United States Postal Service hereby gives notice that on June 11, 2020, it filed with the Postal Regulatory Commission a USPS Request to Establish New Priority Mail—Non-Published Rates Product (PMNPR-2) and Notice of Filing Materials Under Seal. Documents are available at www.prc.gov, Docket Nos. MC2020-156 and CP2020-170.

Elizabeth Reed,
Attorney, Corporate and Postal Business Law.

[FR Doc. 2020-13359 Filed 6-19-20; 8:45 am]

BILLING CODE 7710-12-P